DEPARTMENT OF HEALTH AND HUMAN SERVICES

Administration on Aging

Agency Information Collection Activities; Proposed Collection; Comment Request; Semi-Annual and Final Reporting Requirements for the Older Americans Act Title IV Discretionary Grant Program

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of Information, including each proposed extension of an existing collection of information, and to allow 60 days for public comment in response to the notice. This notice solicits comments on the information collection requirements relating to Performance Progress Reports for Title IV grantees.

DATES: Submit written or electronic comments on the collection of information by May 30, 2006.

ADDRESSES: Submit electronic comments on the collection of information to: greg.case@aoa.hhs.gov. Submit written comments on the collection of information to Greg Case, Administration on Aging, Washington, DC 20201 or by fax to (202) 357-3469.

FOR FURTHER INFORMATION CONTACT: Greg Case at (202) 357-3442 or greg.case@aoa.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

AoA plans to submit to the Office of Management and Budget for approval Guidelines for Preparing Performance Reports for Grants Supported by Title IV of the Older Americans Act. These guidelines provide instructions for semi-annual and final performance reporting pursuant to requirements in Title IV of the Older Americans Act. Through its Title IV Program, the Administration on Aging (AoA) supports projects for the purpose of developing and testing new knowledge and program innovations with the potential for contributing to the well-being of older Americans. Deliverables required by the AoA of all Title IV grantees are the semi-annual and final reports, as provided for in Department of Health and Human Services regulations, 45 CFR Part 74, Section 74.51. The proposed guidelines may be found on the Administration on Aging Web site at http://www.aoa.gov/doingbus/grantrep/grantrep.asp.

AoA estimates the burden of this collection of information as follows: Semi-annual submission with the final report taking the place of the semi-annual report at the end of the final year of the grant. Respondents: States, public agencies, private nonprofit agencies, institutions of higher education, and organizations including tribal organizations. Estimated Number of Responses: 600. Total Estimated Burden Hours: 12,000.

Dated: March 28, 2006.
Josefina G. Carbonell,
Assistant Secretary for Aging.

[FR Doc. E6-4696 Filed 3-30-06; 8:45 am]

BILLING CODE 4154-01-P